GENERAL SERVICES ADMINISTRATION

[PBS-N01]

Notice of Availability to Distribute a Final Environmental Impact Statement for the Construction of a New Border Station Facility in Derby Line, Vermont

AGENCY: Public Buildings Service, GSA.

ACTION: Notice of Availability.

SUMMARY: The General Services Administration (GSA) announces its intent to distribute a Final Environmental Impact Statement (Final EIS) under the National Environmental Policy Act (NEPA) of 1969, as amended, 42 USC 4321-4347 (NEPA) to assess the potential impacts of the construction of a New Border Station Facility in Derby Line, Vermont (the “Proposed Action”). At the request of Customs and Border Protection (CBP), the GSA is proposing to construct a new border station facility which meets their needs, and the design requirements of the GSA.

The existing facilities are undersized and obsolete, and consequently incapable of providing the level of security now required. The Proposed Action has been defined and includes: (a) identification of land requirements, including acquisition of adjoining land; (b) demolition of existing government structures at the border station; (c) construction of a main administration building and ancillary support buildings; and (d) consequent potential alterations to secondary roads.

Studied alternatives have identified alternative locations for the components of the border station including the main administration and ancillary support buildings, the associated roadway network and parking. A No Action alternative has also been studied and evaluates the consequences of not constructing the new border station facility. This alternative has been included to provide a basis for comparison to the action alternatives described above as required by NEPA regulations (40 CFR 1002.14(d)).

DATES: July 30, 2007.

FOR FURTHER INFORMATION CONTACT David M. Drevinsky P.E., PMP, Regional Environmental Quality Advocate (REQA), U.S. General Services Administration, 10 Causeway Street, Room 975, Boston, MA 02222. Fax: (617) 565-5967. Phone: (617) 565-6596. E-mail: david.drevinsky@gsa.gov.

DISTRIBUTION:

GSA will distribute ten reading copies of the Final EIS at the Daily Memorial Library, Goodrich Memorial Library and Haskell Free Library located on 101 Jr. High Drive in Derby Line, 202 Main Street in Newport and 96 Caswell Avenue in Derby Line; respectively.

Dated: June 13, 2007.
Glenn C. Rotondo,
Assistant Regional Administrator, Public Buildings Service, New England Region

[FR Doc. E7-12552 Filed 6-27-07; 8:45 am]

BILLING CODE 6820-A8-S